DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Massena Terminal Railroad Company

[Docket Number FRA-2000-7949]

Massena Terminal Railroad Company (MSTR) seeks a permanent waiver of compliance with the Railroad Safety Appliance Standards, 49 CFR part 231.28(a) Running Boards, which references 231.1(c) Running Boards: (1) Number—One longitudinal running board; (2) Dimensions—Longitudinal running board shall be not less than 18 and preferably 20 inches in width; and (3) Location—Full length of car, center of roof.

MSTR is seeking relief for 75 Aluminum Covered Hopper Cars that were originally designed with 10 hatch covers, five down each side, and a running board positioned down the center of the car. Due to financial considerations MSTR has recently contracted with a facility, for the loading and unloading of these cars, that cannot accommodate this design. To facilitate the loading process MSTR has removed the running boards and positioned six (6) hatches down the center of the car. MSTR states that the loading facility employees access the roof via a permanent platform built to the same height as the car roof. They further claim that the cars are repaired at a site with a similar platform and to their knowledge no one else mounts the top of the car, therefore the running boards are unnecessary. They contend that the running boards would create a tripping hazard if applied down each side of the car roof as is currently the case with other covered hoppers with center mounted hatches. MSTR also sites cost and time constraints in relocating the running board as this would require removing two more hatch covers, welding aluminum plates over the hatches and remounting the running boards on the outside of the cars.

All communications concerning these proceedings should identify the appropriate docket number (e.g., Waiver Petition Docket Number FRA-2000-7949) and must be submitted to the Docket Clerk, DOT Central Docket Management Facility, Room Pl-401 (Plaza Level), 400 Seventh Street, SW., Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at ­http://dms.dot.gov.

Issued in Washington, DC on January 10, 2001.
Grady C. Cothen, Jr.,
Deputy Associate Administrator for Safety Standards and Program Development.

[FR Doc. 01-1557 Filed 1-17-01; 8:45 am]

BILLING CODE 4910-06-P